POSTAL SERVICE

Privacy Act of 1974; System of Records

AGENCY: Postal Service™.

ACTION: Notice of a modified system of records.

SUMMARY: In accordance with the Privacy Act of 1974, the United States Postal Service® (Postal Service) is revising the notice for Privacy Act System of Records USPS 830.000, Customer Service and Correspondence.

DATES: These revisions will become effective without further notice on January 11, 2019 unless comments received on or before that date result in a contrary determination.

ADDRESSES: Comments may be mailed or delivered to the Privacy and Records Management Office, United States Postal Service, 475 L'Enfant Plaza SW, Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. As detailed below, the Postal Service™ has determined that USPS 830.000, Customer Service and Correspondence should be revised to modify Purpose(s), Retention and Disposal, and System Manager(s) and Address. These changes are being made to:

a. Support the new Address Matching Database, which will be used to identify, prevent and mitigate fraudulent activity within the Change of Address and Hold Mail processes.

b. Support the Operation Santa program, a long-standing program that collects the thousands of letters to Santa the USPS receives each year and allows customers to collect and fulfill gift requests for underprivileged children.

The new Address Matching Database is being implemented to identify, prevent and mitigate fraudulent activity within the Change of Address and Hold Mail processes. Postal Service is establishing a dataflow between existing customer systems and the Address Matching Database. This dataflow will allow the Address Matching Database to: Confirm if there is an address match when a new Hold Mail request is submitted; confirm the presence of a Change of Address request when a Hold Mail request is submitted during a 30 day time frame; and confirm the presence of a Hold Mail request when a Change of Address request is submitted during a 30 day time frame. The Address Matching Database will also send confirmation notifications to customers who submit a Hold Mail request.

Operation Santa is a long-standing program that collects the thousands of letters to Santa the Postal Service receives each year and allows customers to collect and fulfill gift requests for underprivileged children. In 2017 USPS digitalized the program in a Pilot test out of the Farley, NY building to continue to protect children's PII while allowing more letters to be adopted. In 2018 the Pilot program will be expanded to 7 markets while performing a volume test in hopes of expanding the program nationally in the coming years. The Letters from Santa program also adds to the excitement of Christmas and is ideal for interesting youngsters in letter writing, stamps and penmanship.

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. The notice for USPS 830.000, Customer Service and Correspondence, provided below in its entirety, is as follows:

SYSTEM NAME AND NUMBER:

USPS 830.000, Customer Service and Correspondence.

SYSTEM CLASSIFICATION:

None.

SYSTEM LOCATION:

USPS Consumer and Industry Affairs, Headquarters; Integrated Business Solutions Services Centers; the National Customer Support Center (NCSC); districts, Post Offices, contractor sites; and detached mailing units at customer sites.

SYSTEM MANAGER(S):

Chief Customer and Marketing Officer and Executive Vice President, United States Postal Service, 475 L'Enfant Plaza SW, Washington, DC 20260-5005; (202) 268-7536.

AUTHORITY FOR MAINTENANCE OF THE SYSTEM:

39 U.S.C. 401, 403, and 404.

PURPOSE(S) OF THE SYSTEM:

1. To enable review and response services for customer inquiries and concerns regarding USPS and its products and services.

2. To ensure that customer accounts and needs are attended to in a timely manner.

3. To enhance the customer experience by improving the security of Change of Address (COA) and Hold Mail processes.

4. To protect USPS customers from becoming potential victims of mail fraud and identity theft.

5. To identify and mitigate potential fraud in the COA and Hold Mail processes.

6. To verify a customer's identity when applying for COA and Hold Mail services.

7. To support (or facilitate) the administration of Operation Santa, Letters to Santa, or similar programs.

CATEGORIES OF INDIVIDUALS COVERED BY THE SYSTEM:

This system contains records relating to customers who contact customer service by online and offline channels. This includes customers making inquiries via email, 1-800-ASK-USPS, other toll-free contact centers, or the Business Service Network (BSN), as well as customers with product-specific service or support issues.

CATEGORIES OF RECORDS IN THE SYSTEM:

1. Customer information: Customer and key contact name, mail and email address, phone and/or fax number; customer ID(s); title, role, and employment status; company name, location, type and URL; vendor and/or contractor information.

2. Identity verification information: Last four digits of Social Security Number (SSN), username and/or password, D-U-N-S Number, mailer ID number, publisher ID number, security level and clearances, and business customer number.

3. Product and/or service use information: Product and/or service type, product numbers, technology specifications, quantity ordered, logon and product use dates and times, case number, pickup number, article number, and ticket number.

4. Payment information: Credit and/or debit card number, type, and expiration date; billing information; checks, money orders, or other payment method.

5. Customer preferences: Drop ship sites and media preference.

6. Service inquiries and correspondence: Contact history; nature of inquiry, dates and times, comments, status, resolution, and USPS personnel involved.

RECORD SOURCE CATEGORIES:

Customers and, for call center operations, commercially available sources of names, addresses, and telephone numbers.

ROUTINE USES OF RECORDS MAINTAINED IN THE SYSTEM, INCLUDING CATEGORIES OF USERS AND PURPOSES OF SUCH USES:

Standard routine uses 1. through 7., 10., and 11. apply.

POLICIES AND PRACTICES FOR STORAGE OF RECORDS:

Automated databases, computer storage media, and paper.

POLICIES AND PRACTICES FOR RETRIEVAL OF RECORDS:

By customer name, customer ID(s), mail or email address, phone number, customer account number, case number, article number, pickup number, and last four digits of SSN, ZIP Code, or other customer identifier.

POLICIES AND PRACTICES FOR RETENTION AND DISPOSAL OF RECORDS:

1. Customer care records for usps.com products are retained 90 days.

2. Records related to 1-800-ASK-USPS, Delivery Confirmation service, Special Services, and international call centers are retained 1 year.

3. Customer complaint letters are retained 6 months and automated complaint records are retained 3 years.

4. Business Service Network records are retained 5 years.

5. Records related to Operation Santa, Letters to Santa, or similar programs are retained 6 months after the new calendar year.

6. Other records are retained 2 years after resolution of the inquiry.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RECORD ACCESS PROCEDURES:

Requests for access must be made in accordance with the Notification Procedure above and USPS Privacy Act regulations regarding access to records and verification of identity under 39 CFR 266.6.

CONTESTING RECORD PROCEDURES:

See Notification Procedure below and Record Access Procedures above.

NOTIFICATION PROCEDURE:

Customers wanting to know if information about them is maintained in this system of records must address inquiries to the system manager in writing. Inquiries should include name, address, and other identifying information.

EXEMPTIONS PROMULGATED FOR THE SYSTEM:

None.

HISTORY:

June 27, 2012, 77 FR 38342; April 29, 2005, 70 FR 22516.

Ruth Stevenson,
Attorney, Federal Compliance.

[FR Doc. 2018-26868 Filed 12-11-18; 8:45 am]

BILLING CODE 7710-12-P